DEPARTMENT OF AGRICULTURE

Animal and Plant Health Inspection Service

7 CFR Part 301

[Docket No. 99-097-3]

Melon Fruit Fly Regulations; Regulated Areas, Regulated Articles, and Removal of Quarantined Area

AGENCY: Animal and Plant Health Inspection Service, USDA.

ACTION: Affirmation of interim rules as final rule.

SUMMARY: We are adopting as a final rule, without change, two interim rules that amended the melon fruit fly regulations. In one interim rule published in the Federal Register on February 22, 2000, we established the melon fruit fly regulations and quarantined a portion of Los Angeles County, CA. The establishment of the melon fruit fly regulations and quarantine of a portion of Los Angeles County, CA, were necessary on an emergency basis to prevent the spread of the melon fruit fly into noninfested areas of the United States. In another interim rule published in the Federal Register on June 28, 2000, we removed the quarantined portion of Los Angeles County, CA. The removal of the quarantined portion of Los Angeles County, CA, was necessary to relieve restrictions that were no longer needed to prevent the spread of the melon fruit fly because we determined that the melon fruit fly was eradicated from this portion of Los Angeles County, CA. This portion of Los Angeles County, CA, was the only area in California quarantined for the melon fruit fly. Therefore, as a result of the interim rule that removed the quarantine on a portion of Los Angeles County, CA, there are no longer any areas in the continental United States quarantined because of the melon fruit fly.

EFFECTIVE DATE: September 25, 2000.

FOR FURTHER INFORMATION CONTACT: Mr. Stephen A. Knight, Operations Officer, Invasive Species and Pest Management Staff, PPQ, APHIS, 4700 River Road Unit 134, Riverdale, MD 20737-1236; (301) 734-8039.

SUPPLEMENTARY INFORMATION:

Background

The melon fruit fly, Bactrocera cucurbitae (Coquillett), is a very destructive pest of fruits and vegetables, including melons, mangoes, peppers, squash, cucumbers, beans, oranges, and peaches. This pest can cause serious economic losses by lowering the yield and quality of these fruits and vegetables and by damaging the seedlings and young plants of squash, melons, and cucumbers. Heavy infestations can result in complete loss of these crops.

In an interim rule effective February 22, 2000, and published in the Federal Register on February 22, 2000 (65 FR 8633-8640, Docket No. 99-097-1), we established Federal regulations for the melon fruit fly in 7 CFR 301.97 through 301.97-10 and quarantined a portion of Los Angeles County, CA. In an interim rule effective June 23, 2000, and published in the Federal Register on June 28, 2000 (65 FR 39779-39780, Docket No. 99-097-2), we amended the melon fruit fly regulations by removing Los Angeles County, CA, from the list of quarantined areas in § 301.97-3(c). That action relieved unnecessary restrictions on the interstate movement of regulated articles from this area.

Comments on the interim rules were required to be received on or before 60 days after the date of publication in the Federal Register. We did not receive any comments. Therefore, for the reasons given in the interim rules, we are adopting the interim rules as a final rule.

This action also affirms the information contained in the interim rules concerning Executive Order 12866 and the Regulatory Flexibility Act, Executive Orders 12372 and 12988, and the Paperwork Reduction Act.

Further, for this action, the Office of Management and Budget has waived the review process required by Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rules that amended 7 CFR part 301 and that were published at 65 FR 8633-8640 on February 22, 2000, and 65 FR 39779-39780 on June 28, 2000.

Authority: Title IV, Pub. L. 106-224, 114 Stat. 438, 7 U.S.C. 7701-7772; 7 U.S.C. 166; 7 CFR 2.22, 2.80, and 371.3.

Done in Washington, DC, this 19th day of September 2000.
Bobby R. Acord,
Acting Administrator, Animal and Plant Health Inspection Service.

[FR Doc. 00-24545 Filed 9-22-00; 8:45 am]

BILLING CODE 3410-34-P